DEPARTMENT OF JUSTICE

Bureau of Alcohol, Tobacco, Firearms and Explosives

[Docket No. ATF 11N; ATF O 1120.2A]

Delegation Order—Authority To Make Determinations on Notices of Clearance, Letters of Clearance, or Denial, and Appeals of Letters of Denial Under 18 U.S.C. 843(h)

1. Purpose. This order delegates certain authorities of the Director to subordinate Bureau of Alcohol, Tobacco, Firearms and Explosives (ATF) officials to make determinations on Notices of Clearance, Letters of Clearance, Letters of Denial, and Appeals of Letters of Denial under 18 U.S.C. 843(h) for responsible persons and employee possessors listed on explosives licenses and permits.

2. Cancellation. ATF O 1120.2, Delegation Order—Authority to Make Determinations on Notices of Clearance, Letters of Clearance, Letters of Denial, and Appeals of Letters of Denial under 18 U.S.C. 843(h), dated May 5, 2003, is canceled.

3. Delegation. Under the authority vested in the Director, ATF, by Department of Justice Final Rule [AG Order No. 2650-2003] as published in the Federal Register on January 31, 2003, and by Title 28 CFR 0.130 through 0.131, the Chief, Federal Explosives Licensing Center is to make determinations relating to Notices of Clearance and Letters of Clearance, and to make determinations relating to Letters of Denial and Appeals of Letters of Denial.

4. Redelegation. The authority delegated above may not be redelegated.

5. Questions. Questions concerning this order may be directed to the Firearms, Explosives and Arson Services Division at (202) 927-8300.

Date Signed: August 5, 2004.
Carl J. Truscott,
Director.

[FR Doc. 04-18777 Filed 8-16-04; 8:45 am]

BILLING CODE 4410-FY-P